DEPARTMENT OF AGRICULTURE

National Agricultural Statistics Service

Notice of Intent To Request To Conduct a New Information Collection

AGENCY: National Agricultural Statistics Service, USDA.

ACTION: Notice and request for comments.

SUMMARY: In accordance with the Paperwork Reduction Act of 1995, this notice announces the intention of the National Agricultural Statistics Service (NASS) to seek approval to conduct a new information collection to gather data regarding production practices, costs and returns, and contractor expenses. This data is currently being collected under OMB number 0535-0218.

DATES: Comments on this notice must be received by February 1, 2022 to be assured of consideration.

ADDRESSES: You may submit comments, identified by docket number 0535-NEW, by any of the following methods:

• Email: ombofficer@nass.usda.gov. Include docket number above in the subject line of the message.

• eFax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-4333. Copies of this information collection and related instructions can be obtained without charge from David Hancock, NASS—OMB Clearance Officer, at (202) 690-2388 or at ombofficer@nass.usda.gov.

SUPPLEMENTARY INFORMATION:

Title: Agricultural Resource Management phase 3 Economic Surveys.

OMB Control Number: 0535-NEW.

Type of Request: Intent to seek approval to create a new information collection for a period of three years.

Abstract: The Agricultural Resource Management Survey(s) (ARMS) are the primary source of information for the U.S. Department of Agriculture on a broad range of issues related to: Production practices, costs and returns, and contractor expenses. Data are collected on both a whole farm level and on selected commodities. This Notice and information collection will focus on the ARMS phase 3 Economic Surveys, previously included in the Agricultural Resource Management and Chemical Use Surveys Information Collection Request (OMB Control Number 0535-0218).

The ARMS phase 3 Economic Surveys are the only annual source of information available for objective evaluation of many critical issues related to agriculture and the rural economy, such as: Annual whole farm finance data, including data sufficient to construct estimates of income for farms by: Type of operation, loan commodities, income for operator households, credit, structure, and organization; marketing information; and other economic data on input usage, production practices, and crop substitution possibilities.

Data from ARMS are used to produce estimates of net farm income by type of commercial producer as required in 7 U.S.C. 7998 as amended and estimates of enterprise production costs as required in 7 U.S.C. 1441(a) as amended. Data from ARMS are also used as weights in the development of the Prices Paid Index, a component of the Parity Index referred to in the Agricultural Adjustment Act of 1938, as amended. These indexes are used to calculate the annual federal grazing fee rates as described in the Public Rangelands Improvement Act of 1978 and Executive Order 12548 and as promulgated in regulations found at 36 CFR 222.51, as amended.

In addition, ARMS is used to produce estimates of sector-wide production expenditures and other components of income that are used in constructing the estimates of income and value-added which are transmitted to the U.S. Department of Commerce, Bureau of Economic Analysis, by the USDA Economic Research Service (ERS) for use in constructing economy-wide estimates of Gross Domestic Product. This transmittal of data, prepared using the ARMS, is undertaken to satisfy a 1956 agreement between the Office of Management and Budget, and the Departments of Agriculture and Commerce that a single set of estimates be published on farm income.

In this approval request for the next three years; the ARMS 3 surveys will overlap with the 2022 Census of Agriculture (conducted in 2023, OMB Control Number 0535-0226) and the Tenure, Ownership and Transition of Agricultural Land (TOTAL, OMB Control Number 0535-0240) which will be conducted in 2024. In January 2023, the farm operators selected to complete the ARMS phase 3 survey will have the option of completing either the ARMS 3 questionnaire or the Census of Agriculture, but will not have to do both. The ARMS phase 3 questionnaire contains the same essential questions as the Census.

In 2024, farm operators who are selected to complete the ARMS phase 3 and the TOTAL survey will have the option of completing the ARMS 3 questionnaire and not having to complete the TOTAL survey. The ARMS phase 3 questionnaire contains the same essential questions as the TOTAL.

The commodity specific questionnaire versions that are scheduled to be conducted in the next three years are included in the following table.

Crop year | Survey | Target commodity | Reference year | Year survey is conducted
2022 | ARMS phase 3 | CRR/Censes wheat | 2022 2022 | 2023 2023
2023 | ARMS phase 3 | CRR soybeans oats peanuts broilers | 2023 2023 2023 2023 2023 | 2024 2024 2024 2024 2024
2024 | ARMS phase 3 | TOTAL | 2024 | 2025

Authority: These data will be collected under the authority of 7 U.S.C. 2204(a). Individually identifiable data collected under this authority are governed by section 1770 of the Food Security Act of 1985, 7 U.S.C. 2276, which requires USDA to afford strict confidentiality to non-aggregated data provided by respondents. This Notice is submitted in accordance with the Paperwork Reduction Act of 1995 (at 44 U.S.C. 3501, et seq.) and Office of Management and Budget regulations at 5 CFR part 1320.

All NASS employees and NASS contractors must also fully comply with all provisions of the Confidential Information Protection and Statistical Efficiency Act (CIPSEA) of 2018, Title III of Public Law 115-435, codified in 44 U.S.C. Ch. 35. CIPSEA supports NASS's pledge of confidentiality to all respondents and facilitates the agency's efforts to reduce burden by supporting statistical activities of collaborative agencies through designation of NASS agents, subject to the limitations and penalties described in CIPSEA.

Estimate of Burden: Public reporting burden for this collection of information is estimated to average approximately 95 minutes per respondent.

Respondents: Farmers, ranchers, farm managers, farm contractors, and farm households.

Estimated Number of Respondents: Up to 40,100 respondents will be sampled each year for the ARMS phase 3 Economic Surveys.

Estimated Total Annual Burden on Respondents: Up to 64,000 hours per year.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, November 10, 2021.
Kevin L. Barnes,
Associate Administrator.

[FR Doc. 2021-26276 Filed 12-2-21; 8:45 am]

BILLING CODE 3410-20-P